DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 9, 2007.

Interested persons are invited to submit written comments regarding the subject matter of the investigations to the Director, Division of Trade Adjustment Assistance, at the address shown below, not later than October 9, 2007.

The petitions filed in this case are available for inspection at the Office of the Director, Division of Trade Adjustment Assistance, Employment and Training Administration, U.S. Department of Labor, Room C-5311, 200 Constitution Avenue, NW., Washington, DC 20210.

Signed at Washington, DC, this 18th day of September 2007.
Ralph Dibattista,
Director, Division of Trade Adjustment Assistance.

Appendix
[Petitions instituted between 9/10/07 and 9/14/07]
TA-W | Subject firm (petitioners) | Location | Date of institution | Date of petition
62118 | Southern Council of Industrial Workers (Union) | Jackson, MS | 09/10/07 | 08/23/07
62119 | Cygne Design (Wkrs) | Commerce, CA | 09/10/07 | 09/07/07
62120 | Nifco America (Wkrs) | Canal Winchester, OH | 09/10/07 | 09/06/07
62121 | Burly Bear Inc. (Comp) | Valdese, NC | 09/10/07 | 08/31/07
62122 | Standayne Automotive Corporation (State) | Windsor, CT | 09/10/07 | 09/06/07
62123 | Aerotech (State) | Flint, MI | 09/10/07 | 09/04/07
62124 | Milan Screw Products, Inc. (Comp) | Milan, MI | 09/10/07 | 09/01/07
62125 | Parlex USA (Wkrs) | Methuen, MA | 09/10/07 | 09/04/07
62126 | First American Title Insurance Company (Wkrs) | Pittsburgh, PA | 09/11/07 | 08/30/07
62127 | JP Morgan Chase Bank NA (Wkrs) | Lexington, KY | 09/11/07 | 09/10/07
62128 | Weiman/Preview (Wkrs) | Christiansburg, VA | 09/11/07 | 09/05/07
62129 | Alyeska Pipeline Service Company (Comp) | Anchorage, AK | 09/11/07 | 09/07/07
62130 | Carolina Color and Chemical Company (Wkrs) | Charlotte, NC | 09/12/07 | 08/25/07
62131 | Neilsen Manufacturing, Inc. (State) | Salem, OR | 09/12/07 | 09/10/07
62132 | Charbert (Comp) | Wood River Jct, RI | 09/12/07 | 09/11/07
62133 | Spectrum Yarns, Inc. (Comp) | Kings Mountain, NC | 09/12/07 | 09/11/07
62134 | Mohawk Home (Comp) | Hiawassee, GA | 09/12/07 | 09/11/07
62135 | Children's Apparel Network Limited (State) | New York, NY | 09/12/07 | 08/15/07
62136 | AGI In Store (Comp) | Forest City, NC | 09/12/07 | 09/11/07
62137 | Drake Extrusion, Inc. (Wkrs) | Ridgeway, VA | 09/13/07 | 09/11/07
62138 | Maine Fence Company (Comp) | Pittsfield, ME | 09/13/07 | 09/11/07
62139 | Springfield LLC (Comp) | Jericho, NY | 09/13/07 | 09/05/07
62140 | R.E. Phelon Company, Inc. (Comp) | Aiken, SC | 09/13/07 | 09/11/07
62141 | Conn/Selmer (Wkrs) | Elkhart, IN | 09/13/07 | 09/05/07
62142 | Powerwave Technologies (Wkrs) | Santa Ana, CA | 09/13/07 | 09/06/07
62143 | Defiance Precision Products Manufacturing (Wkrs) | Defiance, OH | 09/14/07 | 09/13/07
62144 | R.J. Reynolds Tobacco Company (Comp) | Blacksburg, SC | 09/14/07 | 09/13/07
62145 | Osram Sylvania (IUECWA) | St. Marys, PA | 09/14/07 | 09/13/07
62146 | Drive Sol Worldwide Inc. (UAW) | Lyons, OH | 09/14/07 | 09/07/07

[FR Doc. E7-19025 Filed 9-26-07; 8:45 am]

BILLING CODE 4510-FN-P